DEPARTMENT OF THE INTERIOR

Bureau of Land Management

[LLUT91000-L11400000-PH0000-24-1A]

Notice of Utah's Resource Advisory Council (RAC)/Recreation RAC Meeting

AGENCY: Bureau of Land Management, Interior.

ACTION: Notice of Utah's Resource Advisory Council (RAC)/Recreation RAC Meeting.

SUMMARY: In accordance with the Federal Land Policy and Management Act (FLPMA) and The Federal Advisory Committee Act of 1972 (FACA), the U.S. Department of the Interior, Bureau of Land Management's (BLM) Utah Resource Advisory Council (RAC)/Recreation RAC will meet as indicated below.

DATES: The Utah Resource Advisory Council (RAC)/Recreation RAC will meet March 24, 2010, (8:30 a.m.—3:30 p.m.) and March 25, 2010, (8 a.m.—5 p.m.) in St. George, Utah.

ADDRESSES: The Council will meet at the Hilton Garden Inn (Indigo meeting room), 1731 South Convention Center Drive, St. George, Utah.

FOR FURTHER INFORMATION CONTACT: Contact Sherry Foot, Special Programs Coordinator, Utah State Office, Bureau of Land Management, P.O. Box 45155, Salt Lake City, Utah, 84145-0155; phone (801) 539-4195.

SUPPLEMENTARY INFORMATION: The 15-member Council advises the Secretary of the Interior, through the Bureau of Land Management, on a variety of planning and management issues associated with public land management in Utah. In conformance with the Federal Lands Recreation Enhancement Act (Title 16 of the United States Code, Part 6801 et seq.), the U.S. Forest Service and the BLM will present the following recreation fee proposals on March 24: The BLM Moab Field Office proposal to begin charging Expanded Amenity fees at the Moab Skyway Group Site and the Entrada Bluffs, Bartlett, and Courthouse Rock camping areas; the BLM Fillmore Field Office proposal to increase Special Recreation Permit fees at the Little Sahara Recreation Area; the Dixie National Forest proposal to begin charging Expanded Amenity fees at the Pine Valley Guard Station; and the Fishlake National Forest proposals to increase Expanded Amenity fees at the Adelaide, Gooseberry, Lebaron, Maple Grove, and Oak Creek campgrounds. Planned agenda topics for the March 24 session also include a welcome and introduction of new Council members. A half-hour public comment period, where the public may address the Council, is scheduled to begin from 2:15 p.m.—2:45 p.m. Written comments may be sent to the Bureau of Land Management address listed above.

On March 25, topics will include an implementation overview of Subtitle O of the Omnibus Public Land Management Act of 2009, and the Washington County Commissioners' and School and Institutional Trust Lands Administration's perspectives on the Act. Randy Johnson, consultant, will address the Council on the status of ongoing land use bills from other counties. A field tour of the Red Cliffs National Conservation Area is planned from 1:15 p.m. until 4:30 p.m. All meetings are open to the public; however, transportation, lodging, and meals are the responsibility of the participating public.

Dated: February 16, 2010.
Approved:
Selma Sierra,
State Director.

[FR Doc. 2010-3654 Filed 2-23-10; 8:45 am]

BILLING CODE 4310-DQ-P